DEPARTMENT OF TRANSPORTATION

Federal Railroad Administration

[Docket Number FRA-2004-18961]

Union Pacific Railroad Company; Notice of Public Hearing and Extension of Comment Period

The Union Pacific Railroad Company has petitioned the Federal Railroad Administration (FRA) seeking approval of the proposed discontinuance and removal of the traffic control system (TCS), on Track No. 1 between Control Point River, milepost 247.4, and Control Point Ft. Worth, milepost 250.0, on the Dallas Subdivision, Dallas/Ft. Worth area, near Ft. Worth, Texas. The proposed changes include removal of CP University Avenue, milepost 248.01, and conversion of the existing dispatcher controlled, power-operated switch to a radio-controlled, power-operated switch, operated by the Remote Control Locomotive (RCL) Operator. The proposed changes are in conjunction with the installation of a new TCS track between CP West Ft. Worth and CP River. This block signal application proceeding is identified as Docket No. FRA-2004-18961.

FRA has issued a public notice seeking comments of interested parties and has conducted its own field investigation in this matter. After examining the carrier's proposal, letters of protest, and the field report, FRA has determined that a public hearing is necessary before a final decision is made on this proposal. FRA is also extending the comment period to one week beyond the date of the public hearing. If information received at the public hearing warrants the need to extend the comment period further, a separate notice will be published indicating such extension.

Accordingly, a public hearing is hereby set for 9 a.m. on Wednesday, April 20, 2005, in Room 120 of the Texas-New Mexico Power Building, Tower II, 4100 International Plaza, Ft. Worth, Texas 76109. Interested parties are invited to present oral statements at the hearing. The hearing will be an informal one and will be conducted in accordance with Rule 25 of the FRA Rules of Practice (49 CFR 211.25), by a representative designated by the FRA. The hearing will be a non adversary proceeding and, therefore, there will be no cross-examination of persons presenting statements. The FRA representative will make an opening statement outlining the scope of the hearing. After all initial statements have been completed, those persons wishing to make brief rebuttal statements will be given the opportunity to do so in the same order in which they made their initial statements. Additional procedures, if necessary for the conduct of the hearing, will be announced at the hearing.

In addition, FRA is extending the comment period to April 28, 2005. All communications concerning these proceedings should identify the appropriate docket number (e.g., Waiver Petition Docket Number FRA-2004-18961) and must be submitted to the Docket Clerk, DOT Docket Management Facility, Room PL-401 (Plaza Level), 400 7th Street, SW., Washington, DC 20590. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on March 15, 2005.
Grady C. Cothen, Jr.,
Deputy Associate Administrator for Safety, Standards and Program Development.

[FR Doc. 05-5490 Filed 3-18-05; 8:45 am]

BILLING CODE 4910-06-P